DEPARTMENT OF JUSTICE

Antitrust Division

Notice Pursuant to the National Cooperative Research and Production Act of 1933—The ATM Forum

Notice is hereby given that, on July 5, 2001, pursuant to Section 6(a) of the National Cooperative Research and Production Act of 1993, 15 U.S.C. 4301 et seq. (“the Act”), The ATM Forum has filed written notifications simultaneously with the Attorney General and Federal Trade Commission disclosing changes in its membership status. The notifications were filed for the purpose of extending the Act's provisions limiting the recovery of antitrust plaintiffs to actual damages under specified circumstances. The following principal member has downgraded to an auditing member: Virata Ltd., Cambridge, United Kingdom. The following members have been involved in acquisitions: Trillium Digital Systems acquired Intel, Candler, AZ; and Global Knowledge, Cary, NC acquired Institute Eris, Massy Cedex, FRANCE. Also, OKI Network Technologies, Hackensack, NJ; Sony Corporation, Fujusawa, Japan; Huawei Technologies Co., Ltd., Guangdong, Shenzhen People's Republic of China; CiTR Party Ltd., Milton, Queensland, Australia; Electric Lightwave, Inc., Vancouver, WA; Info Comm Inst Singapore, Singapore, Singapore, Anritus Corporation, Atsugi-shi, Kanagawa, Japan; BellSouth, Atlanta, GA; Cabletron Systems, Durham, NH; Cypress Semiconductor, San Jose, CA; Ellacoya Networks, Inc., Merrimack, NH; EATRI, Taejeon, Republic of Korea; Hitachi Telecom USA, Inc., Norross, GA; Hughes Network Systems, Germantown, MD; IBM, Research Triangel Park, NC; National Communications System, Arlington, VA; Metrodata, Egham, Surrey, Untied Kingdom; LSI Logic Corporation, Milpitas, CA; NCUBE, Foster City CA; Network Associates, Inc., Santa Clara, CA; Samsung Electronics Co., Seoul, Republic of Korea; Sonera Corporation, Tampere, Finland; Sony Corporation, Fujisawa, Japan; Telefonica de Edpana, Madrid, Spain; Visual Networks, Rockville, MD; Vitesse Semiconductor Corp., Camarillo, CA; Xilinx, San Jose, CA; ADC Telecommunications, Portland, OR; Catamaran Communications, San Jose, CA; Coreon Inc., Fremont, CA; Nortel Networks Broadband Access, Newark, CA; NorthPoint Communications, San Francisco, CA; Onex Communications Corp., Bedford, MA; Terayon Communications Systems, Tel-Aviv, ISRAEL; RapidWAN, San Jose, CA; Sedon Networks, Kanata, Ontario, CANADA; Seneca Networks, Inc., Rockville, MD; Tachion Networks, Eatontown, NJ; TeraGlobal Communications Corp., San Diego, CA; and Woodwind Communications System Inc., Germantown, MD have been dropped as parties to this venture.

No other changes have been made in either the membership or planned activity of the group research project. Membership in this group research project remains open, and The ATM Forum intends to file additional written notification disclosing all changes in membership.

On April 19, 1993, The ATM Forum filed its original notification pursuant to Section 6(a) of the Act. The Department of Justice published a notice in the Federal Register pursuant to Section 6(b) of the Act on June 2, 1993 (58 FR 31415).

The last notification was filed with the Department on March 29, 2001. A notice was published in the Federal Register pursuant to Section 6(b) of the Act on May 3, 2001 (66 FR 22259).

Constance K. Robinson,
Director of Operations, Antitrust Division.

[FR Doc. 01-20090 Filed 8-9-01; 8:45 am]

BILLING CODE 4410-11-M